DEPARTMENT OF TRANSPORTATION

Federal Motor Carrier Safety Administration

[Docket No. FMCSA-2010-0382]

Agency Information Collection Activities; Revision of a Currently-Approved Information Collection Request: Hazardous Materials Safety Permits

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval. The FMCSA requests approval to revise and extend an ICR entitled, “Hazardous Materials Safety Permits.” This ICR requires companies holding permits to develop communications plans that allows for the periodic tracking of the shipments. A record of the communications that includes the time of the call and location of the shipment may be kept by either the driver (e.g., recorded in the log book) or the company. These records must be kept, either physically or electronically, for at least six months at the company's principal place of business or readily available to the employees at the company's principal place of business. This ICR is being revised due to an increase in the estimated number of annual trips in which permitted Hazardous Materials (HM) is transported resulting in a change to the total information collection burden for maintaining a daily communication record.

On September 9, 2010, FMCSA published a Federal Register notice allowing for a 60-day comment period on the ICR. No comment was received.

DATES: Please send your comments by January 24, 2011. OMB must receive your comments by this date in order to act quickly on the ICR.

ADDRESSES: All comments should reference Federal Docket Management System (FDMS) Docket Number FMCSA-2010-0382. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Mr. Paul Bomgardner, Hazardous Materials Division, Department of Transportation, Federal Motor Carrier Safety Administration, West Building 6th Floor, 1200 New Jersey Avenue, SE., Washington, DC 20590. Telephone: 202-493-0027; e-mail paul.bomgardner@dot.gov.

SUPPLEMENTARY INFORMATION:

Title: Hazardous Materials Safety Permits.

OMB Control Number: 2126-0030.

Type of Request: Revision of a currently-approved information collection.

Respondents: Motor carriers subject to the Hazardous Materials Safety Permit requirements in 49 CFR part 385, subpart E.

Estimated Number of Respondents: 1,425.

Estimated Number of Responses: 1,425 annually.

Estimated Time per Response: 5 minutes. The communication between motor carriers and their drivers must take place at least two times per day and it is estimated that it will take 5 minutes to maintain a daily communication record for each driver.

Expiration Date: February 28, 2011.

Frequency of Response: On occasion.

Estimated Total Annual Burden: 350,000 hours [4.2 million trips × 5 minutes/60 minutes per record = 350,000].

Background: The Secretary of Transportation (Secretary) is responsible for implementing regulations to issue safety permits for transporting certain HM in accordance with 49 U.S.C. 5101 et seq. The HM Safety Permit regulations (49 CFR part 385) require carriers to complete a “Combined Motor Carrier Identification Report and HM Permit Application” (Form MCS-150B). The HM Safety Permit regulations also require carriers to have a security program. As part of the HM Safety Permit regulations, carriers are required to develop and maintain route plans so that law enforcement officials can verify the correct location of the HM shipment. The FMCSA requires companies holding permits to develop a communications plan that allows for the periodic tracking of the shipment. This information covers the record of communications that includes the time of the call and location of the shipment. The records may be kept by either the driver (e.g., recorded in the log book) or the company. These records must be kept, either physically or electronically, for at least six months at the company's principal place of business or be readily available to employees at the company's principal place of business.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued on: December 5, 2010.
Kelly Leone,
Associate Administrator for Research and Information Technology.

[FR Doc. 2010-32239 Filed 12-22-10; 8:45 am]

BILLING CODE 4910-EX-P